DEPARTMENT OF TRANSPORTATION

Federal Motor Carrier Safety Administration

[Docket No. FMCSA-2017-0045]

Agency Information Collection Activities; Extension of a Currently-Approved Information Collection Request: Revocation of Authority Granted

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. FMCSA requests approval to extend an ICR titled, “Request Extension for Revocation of Authority Granted.” This information collection supports the DOT strategic goal of safety by enabling registrants to voluntarily request revocation of operating authority, or some part of that authority. A completed Form OCE-46 is filed with FMCSA by the registrant for requesting that all, or a part, of its operating authority be revoked. The information contained on the form is used by FMCSA in deciding on the revocation request. The use of Form OCE-46 has proven to be an easy and effective means by which a registrant can request revocation of its operating authority. No comments were received in response to the 60-day notice published in the Federal Register on March 22, 2017 (82 FR 14792).

DATES: Please send your comments by August 24, 2017. OMB must receive your comments by this date to act quickly on the ICR.

ADDRESSES: All comments should reference Federal Docket Management System (FDMS) Docket Number FMCSA-2017-0045. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Tura Gatling, Office of Registration, Information and Licensing, Department of Transportation, OA, West Building 6th Floor, 1200 New Jersey Avenue SE., Washington, DC 20590. Telephone: 202-385-2412; email tura.gatling@dot.gov. Office hours are from 9 a.m. to 5 p.m., Monday through Friday, except Federal Holidays.

SUPPLEMENTARY INFORMATION: Title: Request for Extension for Revocation of Authority Granted.

OMB Control Number: 2126-0018.

Type of Request: Extension of a currently approved collection.

Respondents: For-hire motor carriers or regulated commodities, surface freight forwarders, and property brokers.

Estimated Number of Respondents: 3,501.

Estimated Time per Response: 0.25 hours.

Expiration Date: July 31, 2017.

Frequency of Response: On occasion.

Estimated Total Annual Burden: 875 hours [3,501 responses × 0.25 hour = 875].

Background

FMCSA registers for-hire motor carriers of regulated commodities under 49 U.S.C. 13902, surface freight forwarders under 49 U.S.C. 13903, and property brokers under 49 U.S.C. 13904. Each registration is effective from the date specified under 49 U.S.C. 13905(c). Subsection (d) of 49 U.S.C. 13905 also provides that on application of the registrant, the Secretary may amend or revoke a registration, and hence the registrant's operating authority. Form OCE-46 allows registrants to apply voluntarily for revocation of their operating authority or parts thereof. If the registrant fails to maintain evidence of the required level of insurance coverage on file with FMCSA, its operating authority will be revoked involuntarily. Although the effect of both types of revocation is the same, some carriers prefer to request voluntary revocation. For various business reasons, a registrant may request revocation of some part, but not all, of its operating authority.

This information collection supports the DOT strategic goal of safety by enabling registrants to voluntarily request revocation of operating authority, or some part of that authority. A completed Form OCE-46 is filed with FMCSA by the registrant for requesting that all, or a part, of its operating authority be revoked. The information contained on the form is used by FMCSA in deciding on the revocation request. The use of Form OCE-46 has proven to be an easy and effective means by which a registrant can request revocation of its operating authority.

Form OCE-46 is filed by registrants on a voluntary, and for the most part, one-time basis. It calls for a very limited amount of information to identify the registrant and the scope of its request. Thus, the information collection itself has not been automated, although the information collected is ultimately entered into an automated database. The burden associated with this ICR is being revised due to an anticipated increase in the estimated number of annual filings from 3,000 to 3,501 and to account for the corresponding cost of notarizing and mailing Form OCE-46.

Public Comments Invited: You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87 on: July 18, 2017.
G. Kelly Regal,
Associate Administrator for Office of Research and Information Technology.

[FR Doc. 2017-15568 Filed 7-24-17; 8:45 am]

BILLING CODE 4910-EX-P